DEPARTMENT OF AGRICULTURE

Grain Inspection, Packers and Stockyards Administration

Designation of Muncie (IN) To Provide Class X or Class Y Weighing Services

AGENCY: Grain Inspection, Packers and Stockyards Administration, USDA.

ACTION: Notice.

SUMMARY: GIPSA is announcing the designation of East Indiana Grain Inspection, Inc. (East Indiana) to provide Class X or Class Y weighing services under the United States Grain Standards Act (USGSA), as amended.

DATES: Effective Date: July 29, 2013.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

SUPPLEMENTARY INFORMATION: In the July 22, 2013 Federal Register (78 FR 43854), GIPSA announced the designation of East Indiana to provide official services under the USGSA, effective July 1, 2013 to June 30, 2016. Subsequently, East Indiana asked GIPSA to amend their designation to include official weighing services. Section 79a of the USGSA authorizes the Secretary to designate authority to perform official weighing to an agency providing official inspection services within a specified geographic area, if such agency is qualified under section 79 of the USGSA. GIPSA evaluated information regarding the designation criteria in section 79 of the USGSA and determined that East Indiana is qualified to provide official weighing services in their currently assigned geographic area.

East Indiana's present designation is amended to include Class X or Class Y weighing within their assigned geographic area, effective July 29, 2013 to June 30, 2016.

Interested persons may obtain official services by contacting East Indiana at 765-744-6425.

Authority: 7 U.S.C. 71—87k.

Marianne Plaus,
Acting Administrator, Grain Inspection, Packers and Stockyards Administration.

[FR Doc. 2013-20326 Filed 8-19-13; 8:45 am]

BILLING CODE 3410-KD-P